NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 19, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agency-wide (N1-16-10-4, 1 item, 1 temporary item). Routine surveillance recordings, which were previously approved for disposal.

2. Department of Agriculture, Risk Management Agency (N1-258-08-22, 2 items, 2 temporary items). Records relating to legal proceedings involving agency employees.

3. Department of Agriculture, Risk Management Agency (N1-258-08-24, 2 items, 1 temporary item). Non-recordkeeping copies of requests, background documentation, and final determinations relating to interpretations of regulations made under the Federal Crop Insurance Act. Proposed for permanent retention are recordkeeping copies of these records.

4. Department of Defense, Office of the Secretary (N1-330-09-7, 1 item, 1 temporary item). Master files of an electronic information system used to allow military personnel and other U.S. citizens overseas to register to vote and request ballots.

5. Department of Defense, Army and Air Force Exchange Service (N1-334-09-5, 3 items, 3 temporary items). Master files and outputs of an electronic information system used to track the receipt and disposition of sample merchandise.

6. Department of Defense, Defense Finance and Accounting Service (N1-507-10-1, 2 items, 2 temporary items). Military pay records, including substantiating documents and daily transaction listings and registers.

7. Department of Justice, Civil Division (N1-131-08-2, 5 items, 1 temporary item). Records relating to proposed legislation concerning the alien property program. Proposed for permanent retention are subject files relating to claims and litigation, as well as orders and annual reports relating to the program.

8. Department of Justice, Civil Rights Division (N1-60-09-58, 5 items, 5 temporary items). Records relating to the Division's internal Web site, including Web content and Web management records.

9. Department of Justice, Civil Rights Division (N1-60-09-60, 1 item, 1 temporary item). Master files of an electronic information system that tracks time spent by employees on program activities in order to determine agency billing information.

10. Department of Justice, Executive Office for U.S. Attorneys (N1-60-09-38, 1 item, 1 temporary item). Master files for an electronic case management system used by the General Counsel's Office.

11. Department of Justice, U.S. Trustee Program (N1-60-09-63, 1 item, 1 temporary item). Master files of an electronic information system that supports review of means tests for income and assets requirements of Chapter 7 bankruptcy filings.

12. Department of Justice, Federal Bureau of Investigation (N1-65-09-33, 6 items, 6 temporary items). Master files, outputs, audit logs, and other records associated with the National Alert System, which provides notification of events to law enforcement personnel and other first responders.

13. Department of Transportation, Federal Aviation Administration (N1-237-10-1, 3 items, 3 temporary items). Records associated with a Web-based system used to capture and process information relating to air transportation oversight.

14. Department of Transportation, Federal Aviation Administration (N1-237-10-2, 1 item, 1 temporary item). Master files of an electronic information system used to track compliance with regulations relating to drug and alcohol abuse.

15. Department of Transportation, Federal Aviation Administration (N1-237-10-3, 1 item, 1 temporary item). Electronic data containing information provided by airlines regarding training programs and evaluations of proficiency.

16. Department of Transportation, Federal Aviation Administration (N1-237-10-5, 1 item, 1 temporary item). Electronic data used to track quality management improvement actions.

17. Department of Transportation, Federal Aviation Administration (N1-237-10-6, 1 item, 1 temporary item). Master files of an electronic information system used to track agency equipment and other assets.

18. Department of Transportation, Federal Aviation Administration (N1-237-10-7, 1 item. 1 temporary item). Master files of an electronic information system used to collect and maintain financial information provided by airports.

19. Department of Transportation, Federal Aviation Administration (N1-237-10-8, 1 item, 1 temporary item). Master files of an electronic information system which contains safety information obtained from inspection and surveillance activities at airports.

20. Department of Transportation, Federal Aviation Administration (N1-237-10-11, 1 item, 1 temporary item). Electronic data concerning agency-owned aircraft and their crew members.

21. Department of Transportation, Federal Aviation Administration (N1-237-10-12, 1 item, 1 temporary item). Engineering drawings of facilities of the national airspace system created by a computer aided engineering graphics system.

22. Department of Transportation, Federal Aviation Administration (N1-237-10-13, 1 item, 1 temporary item). Electronic data relating to evaluations of buildings and other facilities of the national airspace system.

23. Department of Transportation, Federal Aviation Administration (N1-237-10-14, 2 items, 2 temporary items). Records relating to configuration management for national airspace equipment, including change proposals and master files of an electronic information system used to track changes.

24. Department of Transportation, Federal Aviation Administration (N1-237-10-15, 1 item, 1 temporary item). Master files of an electronic information system used to track the workload of real estate and utility teams.

25. Department of Transportation, Federal Aviation Administration (N1-237-10-16, 3 items, 3 temporary items). Master files, reports, and other records associated with an electronic information system used to track activities related to safety inspections and investigations.

26. Department of the Treasury, Community Development Financial Institution (N1-56-09-12, 3 items, 3 temporary items). Master files, documentation, and outputs for an electronic information system used to track monetary awards to financial institutions for community development purposes.

27. Department of the Treasury, Office of Thrift Supervision (N1-483-10-1, 2 items, 2 temporary items). Extracted and summarized data from electronic information systems relating to branch office surveys and financial reporting. The systems from which these records are derived were previously approved for permanent retention.

Dated: December 14, 2009.
Michael J. Kurtz,
Assistant Archivist for Records Services—Washington, DC.

[FR Doc. E9-30266 Filed 12-17-09; 8:45 am]

BILLING CODE 7515-01-P?USGPO Galley End:?]